ENVIRONMENTAL PROTECTION AGENCY

[OPP-2005-0024; FRL-7726-5]

DCPA; Order to Amend to Terminate Uses

AGENCY: Environmental Protection Agency (EPA).

ACTION: Notice.

SUMMARY: This notice announces amendments to terminate certain uses of products containing the pesticide DCPA, pursuant to section 6(f)(1) of the Federal Insecticide, Fungicide, and Rodenticide Act (FIFRA), as amended. This notice follows a February 16, 2005 Federal Register Notice of Receipt of Request from the DCPA registrant to voluntarily amend to terminate certain uses of their DCPA product registrations. These are not the last DCPA products registered for use in the United States. In the February 16 Notice, EPA indicated that it would issue an order implementing the amendments to terminate the subject uses, unless the Agency received substantive comments within the 30-day comment period that would merit its further review of the request. The Agency received three substantive comments on the Notice, two of which requested that several use sites proposed for termination be retained. EPA hereby issues in this notice an order to amend the subject registrations to terminate a subset of the uses initially requested for termination by the registrant. Any distribution, sale, or use of the DCPA products subject to this order is permitted only in accordance with the terms of this order, including any existing stocks provisions.

DATES: The use terminations are effective on July 31, 2005.

FOR FURTHER INFORMATION CONTACT: Jill Bloom, Special Review and Reregistration Division (7508C), Office of Pesticide Programs, Environmental Protection Agency, 1200 Pennsylvania Ave., NW., Washington, DC 20460-0001; telephone number: (703) 308-8019; fax number: (703) 308-8041; e-mail address: bloom.jill@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0024. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces amendments to terminate uses of certain end-use and manufacturing-use DCPA products registered under section 3 of FIFRA. These registrations are listed in sequence by registration number in Table 1 of this unit.

Table 1—DCPA Product Registrations Affected by Amendment to Terminate Uses
EPA Registration No. | Product Name
5481-485 | 90% Dimethyl-T
5481-486 | Dacthal 1.92F
5481-487 | Dacthal Flowable Herbicide
5481-488 | Dacthal G-2.5 Herbicide
5481-489 | Dacthal G-5 Herbicide
5481-490 | Dacthal W-75 Herbicide
5481-491 | Dacthal W-75
5481-495 | Technical Chlorthal Dimethyl

Table 2.—Registrant of Subject DCPA Products
EPA Company No. | Company Name and Address
5481 | Amvac Chemical Corporation 4695 MacArthur Court Suite 1250 Newport Beach, CA 92660

The uses the registrant requested to delete from its product labels are: Alfalfa, arracacha, artichokes (Chinese and Jerusalem), beans, bean yam, beets, chestnuts (soil treatment and nursery stock), chufa, citron melon, cotton, crabapples (soil treatment and nursery stock), cucumber, edible canna, eggplant, garlic, ginger, kale, leren, peas, pepper, potatoes, residential uses (turf and ornamentals), squash (including pumpkin), sweet potatoes, tanier, turnips, walnuts (non-bearing and nursery stock), and yam. Amvac requested termination of a number of DCPA uses in response to concerns about the contamination of ground water with DCPA and especially its metabolite tetrachloroterephthalic acid (TPA) which came to light when the tolerances for DCPA were being reassessed. Although the Agency was unable to identify a specific health risk associated with TPA, its prevalence and widespread detection in ground water were the basis of discussions with Amvac on the use deletions.

III. Summary of Public Comments Received and Agency Response to Comments

During the public comment period, EPA received three comments in response to the February 16, 2005 Federal Register notice announcing the Agency's receipt of the request for amendments to terminate uses of DCPA. These comments are available on the public docket, and are summarized herein.

The Department of Plant and Environmental Protection Sciences (DPEPS) of the University of Hawaii submitted comments on the potential impact the loss of DCPA would have on the production of beans, bean yam (actually yam bean), beets, cucumber, eggplant, turnips, and especially sweet potatoes, in Hawaii. The commenters subsequently indicated that DCPA is not registered in Hawaii for use on beets or yam bean, and they withdrew their request that the turnip use be retained. In addition, they noted that alternatives to DCPA are available and used in the production of beans and cucumber. The commenters also noted that the combined acreage in Hawaii of crops on which DCPA is used in less than 1,000 acres, so the potential for contamination of water sources with TPA is minimal.

The Pesticide Specialist at Ratto Brothers, a large specialty vegetable grower in the Central Valley of California, commented on the need for the continued availability of DCPA in growing kale and turnips, due to limited alternatives and the costs of hand-labor weeding. He also noted that cultural practices have been implemented by Ratto Brothers' to decrease run-off and surface water contamination. Leafy greens and cole crops such as kale have been identified as a critical uses for DCPA in information the Agency had gathered from the States.

Based on the comments of the University of Hawaii and Ratto Brothers, the Agency will allow Amvac to retain the uses for sweet potato, eggplant, kale, and turnip on the subject registrations. These uses, taken all together, represent less than 2% of total domestic agricultural usage of DCPA, and even less when turf and other residential uses are considered. Because no adverse health concerns have been identified for TPA, the Agency believes that the risks associated with TPA contamination of groundwater on the retained uses in Hawaii are probably negligible.

Amvac, the registrant of the DCPA manufacturing- and end-use products, submitted comments on the disposition of already-printed labels containing language allowing the use of DCPA on sites proposed for deletion. Amvac indicated that it had many such labels on hand, and if they could not be used after the effective date of cancellation, they would represent a signficant expense for Amvac. Amvac proposed that no new labels with the affected use sites would be printed after the effective date of use termination, but that Amvac would be allowed to use existing inventories of current labeling until supplies are exhausted. The approach suggested by Amvac is inconsistent with how cancellations are effected. When a registration is cancelled, production of the affected product must cease; likewise, when a use is terminated, production of the affected product labeled for that use must cease. The Agency cannot allow Amvac to utilize labels with the terminated uses after the effective date of use termination. However, in consideration of the time which has passed since the proposal was published and revisions to the list of use sites to be cancelled, the Agency will extend the effective date of use termination (proposed as April 1, 2005) until a date after publication of this notice. As is typical, the Agency will allow a period of time for clearance of products labeled for use on the terminated sites from the registrant's inventory.

IV. Use Termination Order

Pursuant to FIFRA section 6(f), EPA hereby approves a subset of the use terminations originally requested by the registrant for the DCPA registrations identified in Table 1 of Unit II. Accordingly, the Agency orders that the DCPA product registrations identified in Table 1 of Unit II, are hereby amended to terminate the following uses: Alfalfa, arracacha, artichokes (Chinese and Jerusalem), beans, bean yam (yam bean), beets, chestnuts (soil treatment and nursery stock), chufa, citron melon, cotton, crabapples (soil treatment and nursery stock), cucumber, edible canna, garlic, ginger, leren, peas, pepper, potatoes, residential uses (turf and ornamentals), squash (including pumpkin), tanier, walnuts (non-bearing and nursery stock), and yam. Any distribution, sale, or use of existing stocks of the products identified in Table 1 of Unit II, in a manner inconsistent with any of the Provisions for Disposition of Existing Stocks set forth below in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation or use termination action. The use termination order issued in this Notice includes the following existing stocks provisions.

Amvac Chemical Corporation will be permitted to sell or distribute existing stocks of its products with EPA Registration Numbers as listed in Table I of Unit II, and bearing labels allowing uses including those uses which are the subject of the use termination order, through April 1, 2007. Consistent with the effective date of the use terminations, these existing stocks are products bearing labels which include the uses being cancelled, but to which the labels were affixed prior to July 31, 2005 only.

Sale, distribution, or use of these products bearing labels allowing uses which are the subject of the use termination order, by persons other than the registrant, may continue until supplies are exhausted, provided that such use is consistent with the terms of the previously approved labeling. Any use of existing stocks that is not consistent with such previously approved labeling is prohibited.

List of Subjects

Environmental protection, Pesticides and pests.

Dated: July 15, 2005.
Debra Edwards,
Director, Special Review and Reregistration Division, Office of Pesticide Programs.

[FR Doc. 05-14737 Filed 7-26-05; 8:45 am]

BILLING CODE 6560-50-S